DEPARTMENT OF THE TREASURY

United States Mint

Pricing for the 2025 United States Marine Corps 250th Anniversary Commemorative Coin Program and the 2025 Precious Metals Grid

AGENCY: United States Mint, Department of the Treasury.

ACTION: Notice.

SUMMARY: The United States Mint is announcing pricing for the 2025 United States Marine Corps 250th Anniversary Commemorative Coin Program as follows:

Coin | Introductory price | Regular price
Silver Proof | $91.00 | $96.00
Silver Uncirculated | 89.50 | 94.50
Clad Proof | 56.00 | 61.00
Clad Uncirculated | 54.00 | 59.00

Products containing gold coins will be priced according to the Pricing of Numismatic and Commemorative Gold and Platinum Products Grid posted at www.usmint.gov.

FOR FURTHER INFORMATION CONTACT: Rosa Matos, Acting Sr. Program Manager for Sales and Marketing; United States Mint; 801 9th Street NW, Washington, DC 20220; or call 202-354-7500.

Authority: Public Law 118-10.

Eric Anderson,
Executive Secretary, United States Mint.

[FR Doc. 2025-00203 Filed 1-7-25; 8:45 am]

BILLING CODE 4810-37-P